FEDERAL RETIREMENT THRIFT INVESTMENT BOARD

Sunshine Act; Notice of Meeting

TIME AND DATE: 9:00 a.m. (Eastern Time), August 27, 2012.

PLACE: 10th Floor Board Room, 77 K Street NE., Washington, DC 20002.

STATUS: Parts will be open to the public and parts will be closed to the public.

MATTERS TO BE CONSIDERED:

Parts Open to the Public

1. Approval of the Minutes of the July 23, 2012 Board Member Meeting

2. Thrift Savings Plan Activity Report by the Executive Director

a. Monthly Participant Activity Report

b. Monthly Investment Performance Report

c. Legislative Report

3. DoL/KPMG Audit Report

4. Communications Strategy Presentation

5. Personnel

Parts Closed to the Public

1. Procurement

2. Security

3. Personnel

CONTACT PERSON FOR MORE INFORMATION: Kimberly Weaver, Director, Office of External Affairs, (202) 942-1640.

Dated: August 21, 2012.
James B. Petrick,
Secretary, Federal Retirement Thrift Investment Board.

[FR Doc. 2012-20868 Filed 8-21-12; 4:15 pm]

BILLING CODE 6760-01-P